Proclamation 9752 of May 18, 2018

World Trade Week, 2018

By the President of the United States of America

A Proclamation

America's trade relationships are critical to our economic vitality and world leadership. During World Trade Week, we reaffirm our Nation's unwavering commitment to trading regimes that are free, fair, and reciprocal.

Our Nation has entered a new era in trade policy that is based on the recognition that our economic security is critical to our national security. My trade agenda aims to accelerate American exports through policies that are focused on rebuilding our industries, strengthening the defense industrial base in the United States, and equipping our workforce with state-of-the-art skills. As part of this strategy, I will continue to renegotiate and modernize our trade agreements to meet the challenges of the 21st century. My Administration is also enforcing our well-established trade laws once again, as well as eliminating burdensome and unnecessary regulations and foreign barriers to our products and services. We are focused on promoting American industries and goods; as a result of vigorous tax, trade, and regulatory policies, we are attracting a new wave of investment into our Nation's commercial enterprises.

Over the past year, the United States has made tremendous strides in restoring our Nation's economy. American firms, however, are still vastly underrepresented in international markets. My Administration is taking concrete actions to restore America's capacity to compete in an increasingly international market. We are dedicated to a renewed and equitable North American Free Trade Agreement that promotes the export of American products rather than American jobs. The recent agreement in principle on the United States-Korea Free Trade Agreement offers an opportunity to rebalance an unfair trade relationship. By strongly enforcing trading rules, our Nation's businesses and manufacturers will be better positioned to gain strength domestically and in export markets throughout the world.

The United States will no longer tolerate any foreign nations gaining unfair advantages on American industries by stealing or forcing the transfer of our companies' technology or intellectual property, subsidizing their exporters, illegally dumping products into our markets, and building excessive and unnecessary capacity. These unfair and distortionary trade practices flood global markets, depress prices, and harm our companies and workers. We will not allow these practices to compromise our leadership in intellectual property, digital products, innovative technology, manufacturing, agriculture, and numerous industrial sectors.

My Administration recognizes the importance of prioritizing the interests of American workers and businesses by promoting reciprocal trade based on open, fair, and competitive markets. By adhering to these fundamental principles of international trade, we will expand trade in a way that is fair for the United States and leads to a more effective and balanced world trading system.

NOW, THEREFORE, I, DONALD J. TRUMP, President of the United States of America, by virtue of the authority vested in me by the Constitution and the laws of the United States, do hereby proclaim May 20 through May 26, 2018, as World Trade Week. I encourage Americans to observe this week with events, trade shows, and educational programs that celebrate the benefits of trade to our country.

IN WITNESS WHEREOF, I have hereunto set my hand this eighteenth day of May, in the year of our Lord two thousand eighteen, and of the Independence of the United States of America the two hundred and forty-second.

[FR Doc. 2018-11372

Filed 5-23-18; 11:15 am]

Billing code 3295-F8-P